NATIONAL CREDIT UNION ADMINISTRATION

Agency Information Collection Activities: Submission to OMB for Extension of a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. chapter 35). This information collection is published to obtain comments from the public.

DATES: Comments will be accepted until April 19, 2005.

ADDRESSES: Interested parties are invited to submit written comments to the NCUA Clearance Officer listed below:

Clearance Officer: Mr. Neil McNamara, National Credit Union Administration, 1775 Duke Street, Alexandria, VA 22314-3428, Fax No. 703-518-6669, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: 12 U.S.C. 1771—Conversion from Federal to State Credit Union and from State to Federal Credit Union and 12 U.S.C. 1781—Insurance of Member Accounts—Eligibility.

OMB Number: 3133-0116.

Form Number: NCUA 9600, NCUA 4401, NCUA 4221, NCUA 4505, & NCUA 4506.

Type of Review: Extension of a currently approved collection.

Description: The forms constitute the application for an approval of credit union conversions from federal to State charter and from State to federal charter. In addition, forms in the package contain the application and approval for federal insurance of member accounts in credit unions.

Respondents: Credit unions seeking to convert from federal to State charter and from State to federal charter and non-federally insured State chartered credit unions seeking federal share insurance.

Estimated No. of Respondents/Record keepers: 50.

Estimated Burden Hours Per Response: 4 hours.

Frequency of Response: Other. As credit unions seek approval to convert charter or federal share insurance.

Estimated Total Annual Burden Hours: 200 hours.

Estimated Total Annual Cost: 0.

By the National Credit Union Administration Board on February 11, 2005.
Mary Rupp,
Secretary of the Board.

[FR Doc. 05-3137 Filed 2-17-05; 8:45 am]

BILLING CODE 7535-01-P